DEPARTMENT OF HEALTH AND HUMAN SERVICES

Centers for Medicare & Medicaid Services

42 CFR Part 412

[CMS-1346-CN]

RIN 0938-AQ23

Medicare Program; Inpatient Psychiatric Facilities Prospective Payment System—Update for Rate Year Beginning July 1, 2011 (RY 2012); Correction

AGENCY: Centers for Medicare & Medicaid Services (CMS), HHS.

ACTION: Correction of final rule.

SUMMARY: This document corrects two technical errors that appeared in the final rule published in the Federal Register on May 6, 2011 entitled, “Inpatient Psychiatric Facilities Prospective Payment System—Update for Rate Year Beginning July 1, 2011 (RY 2012).”

DATES: Effective Date: July 1, 2011.

FOR FURTHER INFORMATION CONTACT: Dorothy Myrick or Jana Lindquist, (410) 786-4533.

SUPPLEMENTARY INFORMATION:

I. Background

In FR Doc. 2011-10562 of May 6, 2011 (76 FR 26432) (hereinafter referred to as the RY 2012 IPF PPS final rule), there were two technical errors that we describe in the “Summary of Errors” section and correct in the “Correction of Errors” section below.

II. Summary of Errors

In the RY 2012 IPF PPS final rule, on page 26452, in Table 11, we made a typographical error when we listed the diagnosis code “V451” rather than “V4512” for the description of comorbidity for chronic renal failure. In addition, we inadvertently omitted from Table 11 the comorbidity code “V4511” for chronic renal failure. These changes are not substantive changes to the policies or payment methodologies in the final rule. They are changes to conform the final rule to reflect the correct policies, which were implemented on July 1, 2011.

III. Correction of Errors

In FR Doc. 2011-10562 of May 6, 2011 (76 FR 26432), make the following corrections:

• On page 26452, in Table 11—RY 2012 Diagnosis Codes and Adjustment Factors for Comorbidity Categories, in the second column, with the heading “Diagnoses codes,” for the renal failure, chronic diagnoses codes, replace code “V451” with “V4512” and add code “V4511.”

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons in the rule.

Section 553(d) of the APA ordinarily requires a 30-day delay in the effective date of rules after the date of their publication in the Federal Register. This 30-day delay in the effective date can be waived, however, if an agency finds for good cause that the delay is impracticable, unnecessary, or contrary to the public interest, and the agency incorporates a statement of the findings and its reasons in the rule issued. This notice merely corrects an error and omission in Table 11 of the RY 2012 IPF PPS final rule and does not make any substantive changes to the policies or payment methodologies. The correct policies were implemented on July 1, 2011. We are simply conforming the RY 2012 IPF PPS final rule to those policies by making the corrections identified herein. We believe that undertaking further notice and comment procedures to incorporate these corrections into the FY 2012 IPF PPS final rule and delaying the effective date of these changes is unnecessary. In addition, we believe it is important for the public to have the correct information as soon as possible, and believe it is contrary to the public interest to delay the dissemination of it. Therefore, we find there is good cause to waive notice and comment procedures and the 30-day delay in the effective date for this correction notice.

(Catalog of Federal Domestic Assistance Program No. 93.773, Medicare—Hospital Insurance; and Program No. 93.774, Medicare—Supplementary Medical Insurance Program)

Dated: May 27, 2011.
Dawn Smalls,
Executive Secretary to the Department.

[FR Doc. 2011-13839 Filed 6-2-11; 8:45 am]

BILLING CODE 4120-01-P